DEPARTMENT OF JUSTICE

Notice of Lodging of Consent Decree Under Cercla

Notice is hereby given that on September 7, 2007, a proposed Consent Decree in United States v. Bayer Healthcare LLC et al., Civil Action No. 2:07CV304 (TS), was lodged with the United States District Court for the Northern District of Indiana.

The proposed Consent Decree resolves the United States' claims for performance of response actions and recovery of response costs under sections 106 and 107(a) of the Comprehensive Environmental Response, Compensation and Liability Act, 42 U.S.C. 9606(a) and 9607, against 31 parties that owned, operated or arranged for disposal of hazardous waste at the Himco Dump Superfund Site in Elkhart, Indiana. The Consent Decree requires Bayer Healthcare LLC, a legal successor to an entity that owned part of the Site and generated waste disposed of at the site and Himco Waste Away, Inc., which operated a landfill at the Site, to implement a remedial action selected by the U.S. Environmental Protection Agency, at an estimated cost of some $9,156,000. These entities, together with 29 former customers of the landfill, will also pay some $3,875,000 in past costs incurred by EPA in connection with the Site. The proposed Decree also provides for reimbursement of past costs incurred by the State of Indiana, which will be a co-plaintiff in the case.

The Department of Justice will receive, for a period of thirty (30) days from the date of this publication, comments relating to the proposed Consent Decree. Comments should be addressed to the Acting Assistant Attorney General, Environment and Natural Resources Division, and either e-mailed to pubcomment-ees.enrd@usdoj.gov or mailed to P.O. Box 7611, U.S. Department of Justice, Washington, D.C. 20044-7611, and should refer to United States v. Bayer Healthcare LLC et al., D.J. Reference No. 90-112-865/1.

The proposed Consent Decree may be examined at the Offices of the United States Attorney, 5400 Federal Plaza, Suite 1500, Hammond, IN 46320, and at U.S. EPA Region V, 77 West Jackson Boulevard, Chicago, IL 60604. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. When requesting a copy from the Consent Decree Library, please enclose a check in the amount of $51.75 for the Consent Decree (25 cents per page reproduction cost), payable to the U.S. Treasury or, if by e-mail or fax, forward a check in that amount to the Consent Decree Library at the stated address.

William D. Brighton,
Assistant Chief, Environmental Enforcement Section, Environment and Natural Resources Division.

[FR Doc. 07-4646 Filed 9-19-07; 8:45 am]

BILLING CODE 4410-15-M